LEGAL SERVICES CORPORATION

Sunshine Act Meeting of the Board of Directors Ad Hoc Committee on Performance Reviews of the President and Inspector General

TIME AND DATE: The Ad Hoc Committee on Performance Reviews of the President and Inspector General of the Legal Services Corporation's Board of Directors will meet on November 19, 2004. The meeting will begin at approximately 1:30 p.m., and continue until conclusion of the committee's agenda. It is possible that the Committee meeting may convene earlier or later than expected, depending upon when the Board of Directors concludes its lunch.

LOCATION: Westin Cincinnati, 21 E. 5th Street, Cincinnati, Ohio.

STATUS OF MEETING: Closed. The meeting will be closed to the public. The closing is authorized by the relevant provisions of the Government in the Sunshine Act (5 U.S.C. 552b(c)(2) and (6)) and the Legal Services Corporation's corresponding regulation 45 CFR 1622.5(a) and (e). A copy of the General Counsel's Certification that the closing is authorized by law will be available upon request.

MATTERS TO BE CONSIDERED:

Closed Session

1. Approval of agenda.

2. Consider and act on internal procedures for annual performance evaluations of LSC President and Inspector General.

3. Consider and act on other business.

4. Consider and act on adjournment of meeting.

CONTACT PERSON FOR INFORMATION: Patricia D. Batie, Manager of Board Operations, at (202) 295-1500.

SPECIAL NEEDS: Upon request, meeting notices will be made available in alternate formats to accommodate visual and hearing impairments. Individuals who have a disability and need an accommodation to attend the meeting may notify Patricia Batie at (202) 295-1500.

Dated: November 11, 2004.
Victor M. Fortuno,
Vice President for Legal Affairs, General Counsel & Corporate Secretary.

[FR Doc. 04-25485 Filed 11-12-04; 12:25 pm]

BILLING CODE 7050-01-P